DEPARTMENT OF COMMERCE

National Oceanic and Atmospheric Administration

RIN 0648-XD892

Mid-Atlantic Fishery Management Council (MAFMC); Fisheries of the Northeastern United States; Public Meeting

AGENCY: National Marine Fisheries Service (NMFS), National Oceanic and Atmospheric Administration (NOAA), Commerce.

ACTION: Notice; public meeting.

SUMMARY: The Mid-Atlantic Fishery Management Council's (Council) River Herring and Shad (RH/S) Advisory Panel (AP) will meet to develop recommendations for the 2016-18 RH/S Cap on the Atlantic mackerel fishery and provide general input on RH/S conservation.

DATES: The meeting will be Friday, April 24, 2015 at 10:30 a.m.

ADDRESSES: The meeting will be held via webinar, but anyone can also attend at the Council office address (see below). The webinar link is: http://mafmc.adobeconnect.com/2015rhsap/. Please call the Council at least 24 hours in advance if you wish to attend at the Council office.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org will also have details on webinar access and any background materials.

SUPPLEMENTARY INFORMATION: The Council's River Herring and Shad (RH/S) Advisory Panel (AP) will meet to develop recommendations for the 2016-18 RH/S Cap on the Atlantic mackerel fishery and provide general input on RH/S conservation. There will also be time for public questions and comments. The Council will utilize the input from the RH/S AP at the June 2015 Council meeting when setting the 2016-18 RH/S Cap on the Atlantic mackerel fishery and discussing RH/S conservation.

Special Accommodations

The meeting is physically accessible to people with disabilities. Requests for sign language interpretation or other auxiliary aid should be directed to M. Jan Saunders, (302) 526-5251, at least 5 days prior to the meeting date.

Dated: April 6, 2015.
Tracey L. Thompson,
Acting Deputy Director, Office of Sustainable Fisheries, National Marine Fisheries Service.

[FR Doc. 2015-08173 Filed 4-8-15; 8:45 am]

BILLING CODE 3510-22-P